ENVIRONMENTAL PROTECTION AGENCY

[FRL-9185-8]

Science Advisory Board Staff Office; Notification of a Public Teleconference of the Clean Air Scientific Advisory Committee (CASAC) Particulate Matter Review Panel

AGENCY: Environmental Protection Agency (EPA).

ACTION: Notice.

SUMMARY: The Environmental Protection Agency (EPA) Science Advisory Board (SAB) Staff Office announces a public teleconference on August 25, 2010 of the Clean Air Scientific Advisory Committee Particulate Matter Review Panel (Panel) to discuss its draft letter on the Policy Assessment for the Review of Particulate Matter National Ambient Air Quality Standards—Second External Review Draft (June 2010).

DATES: The teleconference will be held on August 25, 2010 from 10 a.m. to 1 p.m. (Eastern Time).

FOR FURTHER INFORMATION CONTACT: Any member of the public who wants further information concerning the public teleconference may contact Dr. Holly Stallworth, Designated Federal Officer (DFO), EPA Science Advisory Board (1400R), U.S. Environmental Protection Agency, 1200 Pennsylvania Avenue, NW., Washington, DC 20460; via telephone/voice mail (202) 564-2073; fax (202) 565-2098; or e-mail at stallworth.holly@epa.gov. General information concerning the CASAC can be found on the EPA Web site at http://www.epa.gov/casac.

SUPPLEMENTARY INFORMATION: Background: The Clean Air Scientific Advisory Committee (CASAC) was established under section 109(d)(2) of the Clean Air Act (CAA or Act) (42 U.S.C. 7409) as an independent scientific advisory committee. CASAC provides advice, information and recommendations on the scientific and technical aspects of air quality criteria and national ambient air quality standards (NAAQS) under sections 108 and 109 of the Act. The CASAC is a Federal advisory committee chartered under the Federal Advisory Committee Act (FACA), as amended, 5 U.S.C., App 2. The Panel will comply with the provisions of FACA and all appropriate SAB Staff Office procedural policies.

Section 109(d)(1) of the CAA requires that the Agency periodically review and revise, as appropriate, the air quality criteria and the NAAQS for the six “criteria” air pollutants, including particulate matter (PM). EPA conducts scientific and policy assessments related to both primary (health-based) and secondary (welfare-based) standards for each of these pollutants. As part of that process, the CASAC Particulate Matter Review Panel has been reviewing a series of EPA's assessments that provide the basis for EPA rulemaking on particulate matter.

At the August 25, 2010 teleconference, the CASAC Particulate Matter Review Panel will discuss its draft letter on the review of EPA's Policy Assessment for the Review of the Particulate Matter National Ambient Air Quality Standards—Second External Review Draft (June 2010). Background information on previous meetings and teleconferences of the CASAC Particulate Matter Review Panel may be found in 72 FR 63177-63178 (November 8, 2007), 74 FR 7688-7689 (February 19, 2009), 74 FR 46586-46587 (September 10, 2009), 75 FR 8062-8063 (February 23, 2010), 75 FR19971 (April 16, 2010) and 75 FR 32763-32764 (June 9, 2010).

Technical Contacts: Any questions concerning Policy Assessment for the Review of Particulate Matter National Ambient Air Quality Standards—Second External Review Draft (June 2010) should be directed to Ms. Beth Hassett-Sipple, OAR, at hassett-sipple.beth@epa.gov or 919-541-4605.

Availability of Meeting Materials: All meeting materials (agenda, public comments, draft letter to the Administrator) for the August 25, 2010 teleconference will be placed on the CASAC Web site. To find the web page for this meeting, go to the CASAC web page at http://www.epa.gov/casac and click on the calendar link on the blue navigational bar on the left hand side.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit comments for a federal advisory committee to consider as it develops advice for EPA. They should send their comments directly to the Designated Federal Officer for the relevant advisory committee. Oral Statements: In general, individuals or groups requesting an oral presentation at a public teleconference will be limited to three minutes per speaker. To be placed on the public speaker list for the August 25, 2010 teleconference, interested parties should notify Dr. Holly Stallworth, DFO, by e-mail no later than August 20, 2010. Written Statements: Written statements for the August 25, 2010 teleconference should be received in the SAB Staff Office by August 20, 2010, so that the information may be made available to the CASAC Panel for its consideration prior to this meeting. Written statements should be supplied to the DFO (acceptable file format: Adobe Acrobat PDF, MS Word, WordPerfect, MS PowerPoint, or Rich Text files in IBM-PC/Windows 98/2000/XP format). Submitters are asked to provide electronic versions of each document submitted with and without signatures, because the SAB Staff Office does not publish documents with signatures on its Web sites.

Accessibility: For information on access or services for individuals with disabilities, please contact Dr. Stallworth at the phone number or e-mail address noted above, preferably at least ten days prior to the meeting to give EPA as much time as possible to process your request.

Dated: August 2, 2010.
Anthony F. Maciorowski,
Deputy Director, EPA Science Advisory Board Staff Office.

[FR Doc. 2010-19415 Filed 8-5-10; 8:45 am]

BILLING CODE 6560-50-P